DEPARTMENT OF LABOR

Employment and Training Administration

[TA-W-63,519]

Parlex USA, Methuen, MA; Notice of Termination of Investigation

Pursuant to Section 221 of the Trade Act of 1974, as amended, an investigation was initiated on June 11, 2008 in response to a worker petition filed by a state agency representative on behalf of workers of Parlex USA, Methuen, Massachusetts.

The petitioning group of workers is covered by an active certification (TA-W-62,771) which expires on April 28, 2010. Consequently, further investigation in this case would serve no purpose, and the investigation has been terminated.

Signed at Washington, DC, this 12th day of June 2008.
Richard Church,
Certifying Officer, Division of Trade Adjustment Assistance.

[FR Doc. E8-14305 Filed 6-24-08; 8:45 am]

BILLING CODE 4510-FN-P